DEPARTMENT OF ENERGY

Federal Energy Regulatory Commission

[Project No. 13328-001—Alaska Snyder Falls Creek Project]

Cordova Electric Cooperative, Inc.; Notice of Proposed Restricted Service List for a Programmatic Agreement for Managing Properties Included in or Eligible for Inclusion in the National Register of Historic Places

April 21, 2010.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The Commission staff is consulting with the Alaska State Historic Preservation Officer (hereinafter, “Alaska SHPO”) and the Advisory Council on Historic Preservation, pursuant to section 106 of the National Historic Preservation Act ² and its implementing regulations,³ to develop and execute a programmatic agreement for managing properties included in, or eligible for inclusion in, the National Register of Historic Places at the Snyder Falls Creek Project.

² 16 U.S.C. 470 (2006) et seq.

³ 36 CFR part 800 (2009).

The programmatic agreement, when executed by the Commission and the Alaska SHPO, would satisfy the Commission's section 106 responsibilities for all individual undertakings carried out in accordance with the license until the license expires or is terminated (36 CFR 800.13[e]). The Commission's responsibilities, pursuant to section 106 for the Snyder Falls Creek Project, would be fulfilled through the programmatic agreement, which the Commission staff proposes to develop in consultation with the interested participants listed below. The executed programmatic agreement would be incorporated into any order issuance.

Cordova Electric Cooperative, Inc., as applicant for the Snyder Falls Creek Project, is invited to participate in the consultation to develop the programmatic agreement. For the purpose of commenting on the programmatic agreement, we propose to restrict the service list for the proposed project as follows:

John Fowler, Executive Director, Advisory Council on Historic Preservation, The Old Post Office Building, 1100 Pennsylvania Avenue, NW., Suite 803, Washington, DC 20004.

Judith Bittner, SHPO, Office of History & Archaeology, 550 W 7th Avenue, Suite 1310, Anchorage, AK 99501.

Clay Koplin, CEO, Cordova Electric Cooperative, Inc., P.O. Box 20, Cordova, AK 99574-0020.

Roy Totemoff, President, Tatitlek Corporation, 561 E. 36 Avenue, Anchorage, AK 99503.

Jason Borer, Eyak Corporation, P.O. Box 340, Cordova, AK 99574.

David Phillips, Chugach Alaska Corporation, 3800 Centerpoint Drive, Suite 601, Anchorage, AK 99503.

Bruce Cain, Native Village of Eyak, P.O. Box 1388, Cordova, AK 99574.

Representative, U.S. Forest Service, Chugach National Forest, 3301 C Street, Suite 300, Anchorage, AK 99503.

Any person on the official service list for the above-captioned proceeding may request inclusion on the restricted service list, or may request that a restricted service list not be established, by filing a motion to that effect within 15 days of this notice date. In a request for inclusion, please identify the reason or reasons why there is an interest to be included. Also, please identify any concerns about historic properties, including properties of traditional religious and cultural importance to a federally recognized tribe or tribal corporation that has an affiliation to the area. If historic properties are identified within the motion, please use a separate page, and label it NON-PUBLIC INFORMATION.

The original and eight copies of any such motion must be filed with Kimberly D. Bose, Secretary of the Commission, 888 First Street, NE., Washington, DC 20426, and must be served on each person whose name appears on the official service list. Please put the following on the first page: Snyder Falls Creek Project No. 13328-001. Motions may be filed electronically via the Internet in lieu of paper. The Commission strongly encourages electronic filings. See 18 CFR 385.2001(a)(1)(iii) and the instructions on the Commission's Web site (http://www.ferc.gov) under the “e-Filing” link.

If no such motions are filed, the restricted service list will be effective at the end of the 15 day period. Otherwise, a further notice will be issued ruling on any motion or motions filed within the 15 day period.

Kimberly D. Bose,
Secretary.

[FR Doc. 2010-9933 Filed 4-28-10; 8:45 am]

BILLING CODE 6717-01-P